DEPARTMENT OF COMMERCE

International Trade Administration

[A-570-848]

Notice of Extension of Time Limit for Preliminary Results of Administrative Antidumping Review: Freshwater Crawfish Tail Meat From the People's Republic of China

EFFECTIVE DATE: June 11, 2001.

FOR FURTHER INFORMATION CONTACT: Doug Campau or Maureen Flannery, Office of AD/CVD Enforcement VII, Import Administration, International Trade Administration, U.S. Department of Commerce, 14th Street and Constitution Avenue, N.W., Washington DC 20230; telephone: (202) 482-1395 or (202) 482-3020, respectively.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

On September 29, 2000, in accordance with 19 CFR 351.213(b)(1), the Crawfish Processors Alliance, the Louisiana Department of Agriculture & Forestry and Bob Odom, Commissioner (petitioners), submitted a timely request to the Department for administrative review of eighty-nine entities. On October 30, 2000, the Department published a notice of initiation of administrative review of the antidumping duty order on Freshwater Crawfish Tail Meat from the People's Republic of China, covering the period of September 1, 1999 through August 31, 2000. See Initiation of Antidumping and Countervailing Duty Administrative Reveiws, Requests for Revocation in Part and Deferral of Administrative Reviews, 65 FR 64662 (October 30, 2000). On November 13, 2000 and January 29, 2001, the petitioners withdrew their request for review of a number of entities for which reviews were initiated. Even with these withdrawals, thirteen companies have submitted section A questionnaire responses.

Extension of Time Limit for Preliminary Results

Pursuant to section 751(a)(3)(A) of the Act, the Department may extend the deadline for completion of the preliminary results of a review if it determines that it is not practicable to complete the preliminary results within the statutory time limit of 245 days from the date on which the review was initiated. The Department has determined that it is not practicable to complete the preliminary results of this review within the statutory time limit. The Department must review the thirteen responding companies, as well as all suppliers and affiliated importers. Many of the respondent companies have multiple suppliers and importers. Given the number of entities involved, it is not practicable to complete this review within the time limits mandated by section 751(a)(3)(A) of the Act and section 351.213(h)(1) of the Department's regulations.

Therefore, in accordance with these sections, the Department is extending the time limits for the preliminary results by 120 days, to September 30, 2001.

Dated: June 1, 2001.
Joseph A. Spetrini,
Deputy Assistant Secretary, AD/CVD Enforcement Group III.

[FR Doc. 01-14645 Filed 6-8-01; 8:45 am]

BILLING CODE 3510-DS-P